DEPARTMENT OF LABOR

Employment and Training Administration

[TA-W-61,361]

Bayer Clothing Group Inc.; Target Sales Corporation; Atlanta, GA; Notice of Termination of Investigation

Pursuant to Section 221 of the Trade Act of 1974, as amended, an investigation was initiated on April 23, 2007 in response to a petition filed by a company official on behalf of workers at Bayer Clothing Group Inc., Target Sales Corporation, Atlanta, Georgia.

The petitioner has requested that the petition be withdrawn. Consequently, the investigation has been terminated.

Signed at Washington, DC this 27th day of April, 2007.
Linda G. Poole,
Certifying Officer, Division of Trade Adjustment Assistance.

[FR Doc. E7-8469 Filed 5-2-07; 8:45 am]

BILLING CODE 4510-FN-P